SECURITIES AND EXCHANGE COMMISSION

[Release No. PA-29; File No. S7-15-00]

Privacy Act of 1974: Establishment of a New System of Records: Child Care Subsidy Program (SEC-41)

AGENCY: Securities and Exchange Commission.

ACTION: Notice of the establishment of a new system of records.

SUMMARY: In accordance with the requirements of the Privacy Act of 1974, as amended, 5 U.S.C. 552a, the Securities and Exchange Commission (SEC or Commission) gives notice of a new Privacy Act system of records: “Child Care Subsidy Program (SEC-41).” This system will contain personal information submitted by lower income employees who apply for child care tuition subsidy.

DATES: The new system will become effective September 19, 2000 unless further notice is given. The Commission will publish a new notice if the effective date is delayed to review comments or if changes are made based on comments received. To be assured of consideration, comments must be received on or before September 11, 2000.

ADDRESSES: Persons wishing to submit comments should send three copies to Jonathan G. Katz, Secretary, U.S. Securities and Exchange Commission, 450 Fifth Street, NW., Washington, DC 20549-0609. All comment letters should refer to File No. S7-15-00. Comment letters will be available for public inspection and copying at the Commission's Public Reference Room, 450 Fifth Street, NW., Washington, DC 20549.

FOR FURTHER INFORMATION CONTACT: Betty A. Lopez, FOIA/Privacy Act Officer, (202) 942-4320, or Elizabeth T. Tsai, Staff Attorney, (202) 942-4326, Office of Freedom of Information and Privacy Act Operations, SEC, Operations Center, 6432 General Green Way, Alexandria, VA 22312-2413.

SUPPLEMENTARY INFORMATION: The Commission is proposing to delete its current “Personnel Management Security Files (SEC-41)” and reserve the system number “SEC-41.” The current SEC-41 consists merely of copies of some records in, and, thus, duplicates, “Personnel Investigations Records (OPM/Central-9)” ¹ of the United States Office of Personnel Management. Under 5 CFR 736.104(b), requests for these investigative records “are to be submitted to the Office of Personnel Management, Federal Investigations Processing Center, FOI/PA, Boyers, Pennsylvania 16018.”

¹ Describing the system location, OPM/Central-9 states, in part:

b. Decentralized segments: Copies of these records may exist temporarily in agencies on current employees, former employees, or on contractor employees. These copies may be located in the personnel security office or other designated offices responsible for suitability, security clearance, access, or hiring determination on an individual. (“Agency” as used throughout this system is deemed to include Legislative and Judicial branch establishments as well as those in the Executive Branch).

In addition, the Commission is proposing to establish a new system of records, entitled “Child Care Subsidy Program (SEC-41).” This system will contain personal information submitted by lower income employees who apply for child care tuition subsidy. This information will be considered in determining eligibility for and the amount of the subsidy. This data will come from application forms and supporting records submitted by employees.

The Commission has submitted a report of the new system of records to the U.S. House of Representatives, the Senate, and the Office of Management and Budget, under 5 U.S.C. 552a(r) and Appendix I to OMB Circular A-130, “Federal Agency Responsibilities for Maintaining Records About Individuals,” as amended on February 20, 1996 (61 FR 6435).

Accordingly, the Commission is adding a new system of records to read as follows.

SEC-41

SYSTEM NAME:

Child Care Subsidy Program.

SYSTEM LOCATION:

SEC, Operations Center, 6432 General Green Way, Alexandria, VA 22312-2413.

CATEGORIES OF INDIVIDUALS COVERED BY THE SYSTEM:

Present and former SEC employees and their children and child care providers.

CATEGORIES OF RECORDS IN THE SYSTEM:

(1) Employee's name, telephone numbers, address, grade, gross annual salary, gross family income that was reported on the latest Federal income tax return, and number of dependent children; (2) employee's child's name, date of birth, social security number, weekly tuition cost, amount of child care tuition subsidy from state or local government; and (3) employee's child care provider's name, address, telephone number, tax identification number, and license number.

AUTHORITY FOR MAINTENANCE OF THE SYSTEM:

Sec. 643, Pub. L. 106-58, 113 Stat. 477.

PURPOSE:

To determine eligibility for, and the amount of, the child care tuition subsidy for lower income SEC employees.

ROUTINE USES OF RECORDS MAINTAINED IN THE SYSTEM, INCLUDING CATEGORIES OF USERS AND THE PURPOSE OF SUCH USES:

In addition to the conditions of disclosure under 5 U.S.C. 552a(b), the SEC staff may provide these records to:

(1) Any Federal, state, or local government authority implementing child care subsidy programs or investigating a violation or potential violation of a statute, rule, regulation, or order;

(2) Any contractor that performs, on the SEC's behalf, services requiring the use of these records; and

(3) The Office of Personnel Management to be used for evaluating the child care subsidy program.

POLICIES AND PRACTICES FOR STORING, RETRIEVING, ACCESSING, RETAINING, AND DISPOSING OF RECORDS IN THE SYSTEM:

STORAGE:

These records are maintained in paper and/or electronic format.

RETRIEVABILITY:

These records are retrievable by the employee's name or social security number.

SAFEGUARDS:

When not in use, paper records are kept in locked rooms or metal cabinets in a building with security cameras and 24-hour security guards. Access to computer records requires the use of restricted passwords.

RETENTION AND DISPOSAL:

These records will be maintained permanently until their official retention period is established.

SYSTEM MANAGER AND ADDRESS:

Associate Executive Director, Office of Administrative and Personnel Management, SEC, Operations Center, 6432 General Green Way, Alexandria, VA 22312-2413.

NOTIFICATION PROCEDURES:

Requests to determine whether this system contains a record pertaining to the requesting individual should be sent to the Privacy Act Officer, SEC, Operations Center, 6432 General Green Way, Alexandria, VA 22312-2413.

RECORD ACCESS PROCEDURES:

Individuals who want to know how to gain access to or contest the contents of their records may contact the Privacy Act Officer, SEC, Operations Center, 6432 General Green Way, Alexandria, VA 22312-2413.

CONTESTING RECORD PROCEDURES:

See Record Access Procedures above.

RECORD SOURCE CATEGORIES:

Applications for child care subsidy and supporting records, which are voluntarily submitted by employees.

EXEMPTIONS CLAIMED FOR THE SYSTEM:

None.

By the Commission.
Dated: July 28, 2000.
Margaret H. McFarland,
Deputy Secretary.

[FR Doc. 00-20210 Filed 8-9-00; 8:45 am]

BILLING CODE 8010-01-P